DEPARTMENT OF LABOR

Employment and Training Administration

[TA-W-50,923, TA-W-50,923A, and TA-W-50,923B]

Gretag Imaging, Inc. Including Temporary Workers of Agentry, Holyoke, MA, Including Employees of Gretag Imaging, Inc. Operating at Various Locations in the Following States: Minnesota, Florida; Amended Certification Regarding Eligibility To Apply for Worker Adjustment Assistance

In accordance with Section 223 of the Trade Act of 1974 (19 U.S.C. 2273) the Department of Labor issued a Certification of Eligibility to Apply for Worker Adjustment Assistance on April 16, 2003, applicable to workers of Gretag Imaging, Inc., including temporary workers of Agentry, Holyoke, Massachusetts. The notice was published in the Federal Register on May 1, 2003 (68 FR 23323).

At the request of the State agency, the Department reviewed the certification for workers of the subject firm. New information shows that worker separations occurred involving employees of the Holyoke, Washington facility of Gretag Imaging, Inc. located in Minnesota and Florida. These employees were field service technicians supporting the production of photo processing equipment at the Holyoke, Massachusetts location of the subject firm.

Based on these findings, the Department is amending this certification to include employees of the Holyoke, Massachusetts facility of Gretag Imaging, Inc. located in Minnesota and Florida.

The intent of the Department's certification is to include all workers of Gretag Imaging, Inc. who were adversely affected by increased imports.

The amended notice applicable to TA-W-50,923 is hereby issued as follows:

All workers of Gretag Imaging, Inc., including temporary workers of Agentry, Holyoke, Massachusetts (TA-W-50,923), including employees of Gretag Imaging, Inc., Holyoke, Massachusetts, located in Minnesota (TA-W-50923A) and Florida (TA-W-50,923B), who became totally or partially separated from employment on or after February 1, 2002, through April 16, 2005, are eligible to apply for adjustment assistance under Section 223 of the Trade Act of 1974.

Signed at Washington, DC this 24th day of June 2003.
Richard Church,
Certifying Officer, Division of Trade Adjustment Assistance.

[FR Doc. 03-17446 Filed 7-9-03; 8:45 am]

BILLING CODE 4510-30-P